DEPARTMENT OF AGRICULTURE

Office of Inspector General

Succession, Delegations of Authority, and Signature Authorities, No. IG-1313, Change 8

AGENCY: Office of Inspector General, USDA.

ACTION: Notice.

SUMMARY: On November 9, 2016, USDA Inspector General Phyllis K. Fong, pursuant to authority vested in her by the Federal Vacancies Reform Act (5 U.S.C. 3345-3349d) and the Inspector General Act of 1978, as amended (5 U.S.C. app. 3), issued IG-1313, Change 8, Succession, Delegations of Authority, and Signature Authorities. This directive is a revised succession order and reflects delegations of authority for the Office of Inspector General. This directive has been revised to update the lines of succession and delegation, and to clarify procedures to be followed in the event the Office of Inspector General (OIG) headquarters must be relocated. This directive provides guidance on the transfer of functions and duties of the Inspector General (IG), as well as other OIG central management functions, regardless of what events necessitate such transfer.

DATES: November 29, 2016.

FOR FURTHER INFORMATION CONTACT: Christy Slamowitz, Counsel to the Inspector General, U.S. Department of Agriculture, 1400 Independence Avenue SW., Room 441-E, Washington, DC 20250-2308, Telephone: (202) 720-9110.

SUPPLEMENTARY INFORMATION: The OIG proposes revising the succession and delegations of authority for OIG by publishing a detailed sequence of succession within the Washington, DC, headquarters, followed by a detailed sequence of succession by region and position. This action is taken pursuant to authority vested in the Inspector General by the Federal Vacancies Reform Act (5 U.S.C. 3345-3349d) and the Inspector General Act of 1978 (5 U.S.C. app. 3).

For the reasons stated in the preamble, IG-1313, Change 8, Succession, Delegations of Authority, and Signature Authorities, has been revised to give notice of a delegation of authority and the line of succession from the Inspector General as follows:

I. Pursuant to authority vested in me by the Federal Vacancies Reform Act (5 U.S.C. 3345-3349d) and the Inspector General Act of 1978, as amended (5 U.S.C. app. 3), during any period in which the Inspector General (IG), United States Department of Agriculture (USDA), resigns, dies, or is otherwise unable to perform the functions and duties of the office, and unless the President shall designate another officer to perform the functions and duties of the position, the Deputy IG, as the designated first assistant to the IG, shall temporarily perform the IG's functions and duties in an acting capacity, pursuant to and subject to the Federal Vacancies Reform Act (5 U.S.C. 3345-3349d). In the absence of the IG and Deputy IG, the officials designated below, in the order listed, shall become the acting Deputy IG and so shall temporarily perform the functions and duties of the IG. This order may be changed by a delegation in writing from the IG, or by the Deputy IG while acting in the absence of the IG:

1. Assistant IG for Audit (AIG/A);

2. Assistant IG for Investigations (AIG/I);

3. Assistant IG for Management (AIG/M);

4. Assistant IG for Data Sciences (AIG/DS);

5. Counsel to the IG;

6. Deputy Assistant IG for Audit (DAIG/A), by seniority;

7. Deputy Assistant IG for Investigations (DAIG/I);

The following officials for the listed locations in the following order:

8. Audit Directors, by seniority, then Investigations Director, Technical Crimes Division—Kansas City, Missouri;

9. Special Agent-in-Charge (SAC)—Temple, Texas;

10. Audit Director—Beltsville, Maryland;

11. SAC—New York, New York;

12. Audit Director, then SAC—Oakland, California;

13. Audit Director, then SAC—Atlanta, Georgia;

14. Audit Director, then SAC—Chicago, Illinois;

15. Director, Office of Compliance and Integrity; or

16. Director, Office of Diversity and Conflict Resolution.

II. For purposes of this order of succession, a designated official is a person holding a permanent appointment to the position. Persons filling positions in an acting capacity do not substitute for officials holding a permanent appointment to a position. If a position is vacant or an official occupying the position on a permanent basis is absent or unavailable, authority passes to the next available official occupying a position in the order of succession.

III. This delegation is not in derogation of any authority residing in the above officials relating to the operation of their respective programs, nor does it affect the validity of any delegations currently in force and effect and not specifically cited as revoked or revised herein.

IV. The authorities delegated herein may not be redelegated.

Authority: 5 U.S.C. 3345-3349d; 5 U.S.C. app. 3.

Dated: November 29, 2016.
Phyllis K. Fong,
Inspector General.

[FR Doc. 2016-29096 Filed 12-2-16; 8:45 am]

BILLING CODE 3410-23-P